DEPARTMENT OF AGRICULTURE

Agricultural Marketing Service

7 CFR Part 1150

[Doc. No. AMS-DA-20-0060]

National Dairy Promotion and Research Board Reapportionment; Re-Opening of Comment Period

AGENCY: Agricultural Marketing Service, USDA.

ACTION: Proposed rule; reopening of comment period.

SUMMARY: The Agricultural Marketing Service (AMS) is providing an additional 45 days for public comments on the proposed rule that would amend the Dairy Promotion and Research Order (Dairy Order). The proposed rule would modify the number of National Dairy Promotion and Research Board (Dairy Board) members in 2 of the 12 regions. The total number of domestic Dairy Board members would remain the same at 36. This modification was requested by the Dairy Board, which administers the Dairy Order, to better reflect the geographic distribution of milk production in the United States.

DATES: The comment period for the proposed rule originally published on September 21, 2021, at 86 FR 52420, is reopened. Comments must be submitted on or before July 25, 2022.

ADDRESSES: Interested persons are invited to submit written comments concerning this proposed rule. Comments may be submitted through the Federal e-rulemaking portal at https://www.regulations.gov or emailed to Whitney.Rick@usda.gov and should reference the document number AMS-DA-20-0060, the date of publication, and the page number of this issue of the Federal Register. All comments will be included in the official record and will be made available to the public. Please be advised that the identity of the individuals or entities submitting comments will be made public on the internet at the address provided above.

FOR FURTHER INFORMATION CONTACT: Whitney A. Rick, Director, Promotion, Research, and Planning Division, Dairy Program, AMS, USDA, 1400 Independence Ave. SW, Room 2958-S, Stop 0233, Washington, DC 20250-0233. Phone: (202) 720-6909. Email: Whitney.Rick@usda.gov.

SUPPLEMENTARY INFORMATION: Section 1150.131(e) of the Dairy Order requires the Dairy Board to review the geographic distribution of milk production volume throughout the United States at least every five years and not more than every three years and, if warranted, shall recommend to the Secretary a reapportionment of the regions, in order to better reflect the geographic distribution of milk production volume in the United States.

A proposed rule, published in the Federal Register on September 21, 2021 (86 FR 52420), would increase Dairy Board Region 8 (Idaho) representation from 2 members to 3 members and would decrease Region 10 (Alabama, District of Columbia, Florida, Georgia, Kentucky, Louisiana, Mississippi, North Carolina, Puerto Rico, South Carolina, Tennessee, and Virginia) representation from 2 members to 1 member. The total number of domestic Dairy Board members would remain the same at 36.

USDA received a comment from the Dairy Board requesting an extension to the comment period, to allow additional time for the Dairy Board and other interested parties to fully analyze the proposed changes to the board membership. USDA also received comments from dairy farmers, a dairy industry organization, and the public expressing concern regarding the proposed decreased representation in Region 10. Therefore, AMS is reopening the comment period to encourage additional input on the proposed modifications to the number of National Dairy Promotion and Research Board (Dairy Board) members.

Erin Morris,
Associate Administrator, Agricultural Marketing Service.

[FR Doc. 2022-12460 Filed 6-9-22; 8:45 am]

BILLING CODE P